DEPARTMENT OF AGRICULTURE

Forest Service

Sierra National Forest, Bass Lake Ranger District, California, Sugar Pine Adaptive Management Project

AGENCY: Forest Service, USDA.

ACTION: Notice of intent to prepare an environmental impact statement.

SUMMARY: The Sierra National Forest, Bass Lake Ranger District is proposing to conduct a comprehensive series of treatments centered on a Wildland Urban Intermix area known as the community of Sugar Pine. Strategically Placed Area Treatments (SPLATs) have been initially identified to provide a means to reduce the intensity and spread of wildland fires across the landscape and near communities. Additional treatments within these SPLATs have been identified where forest stands are densely stocked and thinning is needed. This thinning is needed to reduce inter-tree competition and improve tree vigor and increase stand resistance to drought conditions, insect and disease attack. The effects of implementing the treatments called for in the final decision will be studied by the University of California as they relate to fire and fuels, water quality and quantity, wildlife (specifically the Pacific Fisher) and public involvement. Depending on the results of this study, future management actions on other similar ecosystems may be changed. This approach to monitoring and feedback is called Adaptive Management and is a primary reason for the descriptive title.

DATES: To be most effective, comments concerning the scope of this analysis should be received by October 31, 2007. Public scoping for this analysis, originally expected to be documented in an Environmental Assessment, began on April 1, 2007. Unless response to this notice raises concerns not yet expressed, the draft environmental impact statement (DEIS) is expected in November 2007 and the final environmental impact statement (FEIS) is expected in January 2008.

ADDRESSES: Send comments to the Forest Service at the following addresses. Hardcopy mail: U.S. Forest Service, Sierra National Forest, Bass Lake Ranger District, 57003 Road 225, North Fork, CA 93643, ATTN: David Martin. Electronic mail: comments-pacificsouthwest-sierra@fs.fed.us. Use Rich Text format (.rtf) or Word format (.doc).

FOR FURTHER INFORMATION CONTACT: Mark Lemon, Interdisciplinary Team Leader, at Sierra National Forest, Bass Lake Ranger District, 57003 Road 225, North Fork, CA 93643.

SUPPLEMENTARY INFORMATION: Background Information: The Sugar Pine Adaptive Management Project (Madera and Mariposa Counties, California) lies within the Fresno River watershed, where during the period before significant Euro-American influence, natural fires occurred frequently and were of low intensity with return intervals ranging from every 5 to 10 years. During the past century, management activities (including harvesting operations, fire exclusion/suppression, etc.) and increased human habitation, have changed the composition of vegetation. Currently, vegetation within the Sugar Pine Adaptive Management Project has changed from one where frequent, low intensity fires occurred to one with increased suseptability to infrequent moderate to high intensity wildland fire. Forest stand densities are above that which can be sustained, with inter-tree competition increasing and tree vigor beginning to decline. Pockets of insect and disease attack are beginning to show in the stands as well as the drought induced mortality. Non-native plant species and noxious weeds, that were absent in the area, now are growing in small pockets.

The Sugar Pine Adaptive Management Project was originally to be documented in an Environmental Assessment (EA). The Sugar Pine Adaptive Management Project lies within the elevational bands for the Southern Sierra Fisher Conservation Area. Public concern and management review surrounding the significance of potential impacts to the Pacific fisher, a candidate threatened and endangered species and the California spotted owl, a sensitive species, during past projects, has led to the decision to document the environmental analysis with an environmental impact statement (EIS) for this project.

Purpose and Need for Action

The Sierra National Forest Land and Resource Management Plan (as amended in January 2004) has identified wildland urban intermix areas as places where human habitation is mixed with areas of flammable wildland vegetation and has the highest priority for treatment. As directed in the Sierra Nevada Forest Plan Amendment (2004), national forests are to integrate fire and fuels management objectives with other resource management objectives and address the role of wildland fire in the ecosystem. The forest-wide standards and guidelines state that “vegetation within treatment areas should be modified to meet desired surface, ladder and crown fuel conditions as well as stand densities necessary for healthy forest during drought conditions”.

The community of Sugar Pine (Madera Counties, California) lies in the center portion of the project area. On the northern portion of the project boundary is a large area of private land known as Yosemite Mountain Ranch as well as the community of Fish Camp. Most of the homes in these communities do not have sufficient clearance to protect them if a fast moving wildland fire were to move into the subdivision.

Vegetation in the Sugar Pine Adaptive Management Project area includes conifer stands consisting of ponderosa pine and mixed conifer, where insect and drought induced mortality is beginning to appear in pockets within both natural stands and conifer plantations. In lower to mid-elevations of the project area, on the steeper slopes, brush (manzanita/ceanothus) is the main vegetation. Scattered in pockets throughout the project area are heavy accumulations of dead and down material (branches, limbs and logs) resulting from natural accumulation and past management activities.

Proposed Action

The proposed action includes vegetation treatment areas designed to create SPLATs to reduce the intensity and spread of wildland fire across the landscape and near communities and reduce inter-tree competition to improve tree vigor and increase stand resistance to drought induced mortality, insect and disease attack. Additional areas for treatment are proposed to create a defensible fuels profile near key transportation corridors and within the Defense zones of the wildland urban intermix. The treatments proposed include: Thinning in conifer stands, either pre-commercially or commercially to reduce lower level canopy crown densities; mastication of brush and shrub patches; perscribed burning, both understory and piles; manual and/or prescribed burning treatment of noxious weed infestations; prepare and plant failed conifer plantations.

Possible Alternatives

To comply with NEPA, the Forest Service will evaluate additional alternatives to the proposed action, including the no action alternative within the EIS. Additional alternatives suggested through public comment will also be considered. Each alternative will be rigorously explored and evaluated, or rationale will be given for eliminating an alternative from detailed study. A range of alternatives may be considered.

Responsible Official

The Responsible Deciding Official is Edward Cole, Forest Supervisor, Sierra National Forest, 1600 Tollhouse Road, Clovis, CA 93612.

Nature of Decision To Be Made

The Responsible Deciding Official will use the EIS to make an informed decision as to which alternative best meets the purpose and need for this project or to take no action at this time, in accordance with applicable laws, regulations, and Forest Service Manual/Handbook direction.

Scoping Process

The public will be invited to participate in the scoping process, and review of the draft environmental impact statement (DEIS). Comments from the public and other agencies will be used in preparation of the DEIS. A public meeting was held on September 5, 2007. A public field trip is currently scheduled for September 29, 2007. Additional public meetings may be scheduled as requested or needed, but no dates have been set. The DEIS is expected to be available for public review and comment on November 2007 and a FEIS in January 2008.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F.Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 27, 2007.
Edward Cole,
Forest Supervisor.

[FR Doc. 07-5033 Filed 10-11-07; 8:45 am]

BILLING CODE 3410-11-M